DEPARTMENT OF LABOR

Occupational Safety and Health Administration

29 CFR Parts 1910, 1915, and 1926

[Docket No. S-778-A]

RIN 1218-AB 81

Standards Improvement Project—Phase II

AGENCY: Occupational Safety and Health Administration (OSHA), Labor.

ACTION: Extension of comment period.

SUMMARY: On October 31, 2002, OSHA published a proposed rule entitled “Standards Improvement Project—Phase II”. The proposal provided for a period to receive public comment to end on December 30, 2002. OSHA is extending the deadline for receipt of public comment until January 30, 2003. This action is in response to interested parties who have requested additional time to submit their comments to the record.

DATES: Comments and data must be submitted by January 30, 2003.

ADDRESSES: Submit three copies of written comments to the Docket Office, Docket No. S-778-A, Room N-2625, OSHA, U.S. Department of Labor, 200 Constitution Avenue, NW., Washington, DC 20210 (telephone: (202) 693-2350). Commenters may transmit written comments of 10 pages or less by fax to the Docket Office at (202) 693-1648.

You may submit comments electronically to http://ecomments.osha.gov. Please note that you may not attach materials such as studies or journal articles to your electronic comments. If you wish to include such materials, you must submit three copies to the OSHA Docket Office at the address listed above. When submitting such materials to the OSHA Docket Office, you must clearly identify your electronic comments by name, date, and subject, so that we can attach the materials to your electronic comments.

FOR FURTHER INFORMATION CONTACT: For general information and press inquiries, contact Ms. Bonnie Friedman, Director, OSHA Office of Information and Consumer Affairs, Room N-3647, OSHA, U.S. Department of Labor, 200 Constitution Avenue, NW., Washington, DC 20210 (telephone: (202) 693-1999). For technical inquiries, contact Mr. Robert Manware, Office of Physical Hazards, Room N-3718, OSHA, U.S. Department of Labor, 200 Constitution Avenue, NW., Washington, DC 20210 (telephone (202) 693-2299; fax: (202) 693-1678). For additional copies of this Federal Register notice, contact the Office of Publications, Room N-3101, OSHA, U.S. Department of Labor, 200 Constitution Avenue, NW., Washington, DC 20210 (telephone: (202) 693-1888). Electronic copies of this Federal Register notice, as well as news releases and other relevant documents, are available at OSHA's website on the Internet at http://www.osha.gov.

SUPPLEMENTARY INFORMATION: In 1995, the Agency identified a number of provisions in its regulations and standards that were inconsistent, duplicative, outdated, or in need of being rewritten in plain language. In 1998, as part of the process of correcting such provisions, OSHA made several substantive revisions to its health and safety standards that reduced the regulatory obligations of employers while maintaining the safety and health protection afforded to employees (63 FR 33450, June 18, 1998). During and after this rulemaking, the Agency identified several other regulatory provisions in its safety and health standards involving notification of use, frequency of exposure monitoring and medical surveillance, and similar provisions that it believes are unnecessary or ineffective in protecting employee safety and health. OSHA proposed to make substantive revisions to a number of the health standard provisions identified in this process on October 31, 2002 (67 FR 66494). The period for filing public comment on the proposal was to end on December 30, 2002. Interested parties, including the AFL-CIO, have requested an extension of the deadline for submitting comments based on the need for additional time to provide a thorough review and response to the substantive provisions proposed for revision in the notice. OSHA, therefore, is extending the deadline for submitting comments from December 30, 2002, until January 30, 2003.

Authority

John L. Henshaw, Assistant Secretary of Labor for Occupational Safety and Health, U.S. Department of Labor, 200 Constitution Avenue, NW., Washington, DC 20210, directed the preparation of this document. It is issued under section 6(b) of the Occupational Safety and Health Act of 1970 (29 U.S.C. 655), Secretary of Labor's Order No. 3-2000 (65 FR 50017) and 29 CFR part 1911.

Signed in Washington, DC on January 2, 2003.
John L. Henshaw,
Assistant Secretary of Labor.

[FR Doc. 03-316 Filed 1-7-03; 8:45 am]

BILLING CODE 4510-26-M